DEPARTMENT OF HEALTH AND HUMAN SERVICES

National Institutes of Health

National Institute of Nursing Research; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Nursing Research Special Emphasis Panel Assessing and Managing Symptoms in Individuals with Alzheimer's Disease.

Date: June 26, 2012.

Time: 8:00 a.m. to 4:00 p.m.

Agenda: To review and evaluate grant applications.

Place: Hyatt Regency Bethesda, One Bethesda Metro Center, 7400 Wisconsin Avenue, Bethesda, MD 20814.

Contact Person: Mary A. Kelly, Program Specialist, DEA/OR, NINR/NIH, 6701 Democracy Blvd., Suite 700, Bethesda, MD 20892, 301-496-0235, mary.kelly@nih.gov.

Name of Committee: National Institute of Nursing Research Special Emphasis Panel Centers of Excellence in Symptom Science.

Date: June 28-29, 2012.

Time: 8:00 a.m. to 4:00 p.m.

Agenda: To review and evaluate grant applications.

Place: Hilton Washington/Rockville, 1750 Rockville Pike, Rockville, MD 20852.

Contact Person: Mario Rinaudo, MD, Scientific Review Officer, Office of Review, National Inst. of Nursing Research, National Institutes of Health, 6701 Democracy Blvd. (DEM 1), Suite 710, Bethesda, MD 20892, 301-594-5973, mrinaudo@mail.nih.gov.

Name of Committee: National Institute of Nursing Research Special Emphasis Panel Fellowship and Career Award Grant Review.

Date: June 28, 2012.

Time: 2:30 p.m. to 3:30 p.m.

Agenda: To review and evaluate grant applications.

Place: National Institutes of Health, One Democracy Plaza, 6701 Democracy Boulevard, Bethesda, MD 20892, (Telephone Conference Call).

Contact Person: Mary A. Kelly, Program Specialist, DEA/OR, NINR/NIH, 6701 Democracy Blvd., Suite 700, Bethesda, MD 20892, 301-496-0235, mary.kelly@nih.gov.

(Catalogue of Federal Domestic Assistance Program Nos. 93.361, Nursing Research, National Institutes of Health, HHS)

Dated: May 31, 2012.
Jennifer S. Spaeth,
Director, Office of Federal Advisory Committee Policy.

[FR Doc. 2012-13848 Filed 6-6-12; 8:45 am]

BILLING CODE 4140-01-P